DEPARTMENT OF VETERANS AFFAIRS

Performance Review Board Members

AGENCY: Department of Veterans Affairs.

ACTION: Notice.

SUMMARY: Under the provisions of 5 U.S.C. 4314(c)(4) agencies are required to publish a notice in the Federal Register of the appointment of Performance Review Board (PRB) members. This notice revises the list of members of the Department of Veterans Affairs (VA) Performance Review Board, which was published in the Federal Register (Vol. 68, No. 198), on October 14, 2003.

EFFECTIVE DATES: August 4, 2004.

FOR FURTHER INFORMATION CONTACT: Charlotte Moment, Office of Human Resources Management and Labor Relations (052B), Department of Veterans Affairs, 810 Vermont Avenue, NW., Washington, DC 20420, (202) 273-8165.

VA Performance Review Board (PRB)

Tim S. McClain, General Counsel (Chairperson)

Nora E. Egan, Chief of Staff

Ronald R. Aument, Deputy Under Secretary for Benefits, Veterans Benefits Administration

Michael J. Kussman, M.D., Acting Deputy Under Secretary for Health, Veterans Health Administration

John H. Thompson, Deputy General Counsel

D. Mark Catlett, Principal Deputy Assistant Secretary for Management

Lucretia M. McClenney, Special Assistant

Jon A. Wooditch, Deputy Inspector General

Jon A. Wooditch, Deputy Inspector General

Edward F. Meagher, Deputy Assistant Secretary for Information Technology, Management

Pamela M. Iovino, Acting Assistant Secretary for Congressional and Legislative, Affairs

William H. Campbell, Principal Deputy Assistant Secretary for Human Resources, Management (Alternate)

Michael Walcoff, Associate Deputy Under Secretary for Operations, Veterans Benefits, Administration (Alternate)

Laura J. Miller, Assistant Deputy Under Secretary for Health for Operations and Management (Alternate)

Dated: July 29, 2004.
Anthony J. Principi,
Secretary of Veterans Affairs.

[FR Doc. 04-17821 Filed 8-3-04; 8:45 am]

BILLING CODE 8320-01-M